FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Cargo Zone Express Corporation, 19550 Dominguez Hills, Dr., #101, Rancho Dominguez, CA 90220.

Officer: Moo Sang Cho, Vice President, (Qualifying Individual).

Generation Logistics, Inc., 145-40 157th Street, Jamaica, NY 11434.

Officer: Daniel M. Corbett, President, (Qualifying Individual).

Anmi Air & Sea Transportation Inc., 8032 NW. 66th Street, Miami, FL 33166.

Officers: Mildre Jimenez, Secretary, (Qualifying Individual), Paz Moreno, President.

JT Shipping Corporation, 7515 El Escorial Way, Buena Park, CA 90620.

Officers: Ming Zhong, Secretary/CFO, (Qualifying Individual), Julia Li Hawksworth, President.

MCLX, Inc., One Canal Place, Suite 1600, New Orleans, LA 70130.

Officers: Paula L. Maher, Chairman, (Qualifying Individual), David F. Schulingkamp, President.

Wellton Logistics, Inc., 160-23 Rockaway Blvd., Jamaica, NY 11434.

Officers: Feng Chan Hsieh, Secretary, (Qualifying Individual), Terry Mui, President.

Caribbean Logistics, Inc., 6832 NW. 77th Court, Miami, FL 33166.

Officers: Geoffrey Hooper Woodman, President, (Qualifying Individual), Berry Reyes, Vice President.

16 East Tremont Corp. dba American & Caribbean Shipping, 13 East Tremont Avenue, Bronx, NY 10453.

Officer: Nuris Estela Minaya, Vice President, (Qualifying Individual).

Pillar-Trans, LLC, 533 Division Street, Elizabeth, NJ 07201.

Officers: Ki Hun Yoo, Member, (Qualifying Individual), Hye Chong Yoo, Member.

TAN Cargo Services, LTD, 7215 NW., 41st Street, Bay-E, Miami, FL 33166.

Officer: Edgard Jose Toruno, President, (Qualifying Individual).

All Right Shipping, 1350 Bronx River Avenue, Bronx, NY 10472.

Officer: Denzil Barker, President, (Qualifying Individual).

Non-Vessel-Operating Common Carrier and Ocean Freight Forwarder Transportation Intermediary Applicants

Intrans Logistics, Inc., 1408 Sutter Creek Drive, El Dorado Hills, CA 95762.

Officers: Michael A. Dew, Director, (Qualifying Individual), Jean M. Dew, CEO.

Worldwide Integrated Logistics, LLC dba WIL Lines, 6304 NW. 97th Avenue, Miami, FL 33178.

Officers: Doumit Shmouni, President, (Qualifying Individual), Maurice Mead, Vice President.

Doma Consolidating Inc. dba Doma Shipping, 2520 S. State St., Chicago, IL 60616.

Officer: Asimoula Mina Georgalas, President, (Qualifying Individual).

Priority Air Express, LLC, 111 Henderson Drive, Sharon Hill, PA 19079.

Officers: Steve Giampapa, Vice President, (Qualifying Individual), Christopher Carpenter, President.

G.L.E., International, Inc., 8382 NW. 68th Street, Miami, FL 33166.

Officer: Ligia Estrada, President, (Qualifying Individual).

Advanced Logistics Inc., 5567 NW. 72nd Avenue, Miami, FL 33166.

Officers: Armando Arias, Vice President, (Qualifying Individual), Jose R. Castillo-Ospina, President.

Delmar Logistics (GA) Inc., 4345 International Pkwy, Suite 110, Atlanta, GA 30354.

Officers: Mario Alfonso, President, (Qualifying Individual), Robert Iny, Vice President.

Senaduana Freight Forwarders, 7778 NW., 46th Street, Miami, FL 33166.

Officer: Jorge Escribani, Ocean Manager, (Qualifying Individual).

LT Freight International, Inc., 4751 Blanco Drive, San Jose, CA 95129.

Officers: Tony Tian, Vice President, (Qualifying Individual), Lisa S. Tian, President.

Carolina Forwarding & Brokerage, 3220 Carmel Bay Drive, Mount Pleasant, SC 29466, Lauren Emily Justice, Sole Proprietor.

Ocean Freight Forwarder—Ocean Transportation Intermediary Applicants

North Star Forwarding Solutions, LLC, 8693 Maritime Street, Jacksonville, FL 32226.

Officers: Laura L. Weast, Secretary, (Qualifying Individual), Magnus B. Lindeback, CEO.

JR&K Logistics, LLC, 11812 San Vicente Blvd., Suite 610, Los Angeles, CA 90049.

Officer: Ricky Y. Seung, President, (Qualifying Individual).

Pointer Int'l Forwarders, Inc., 4851 NW. 79th Avenue, Suite 7, Doral, FL 33166.

Officers: Maria A. Ramos, President, (Qualifying Individual), Eduardo C. Ramos, Vice President.

Sun Cargo (USA) Inc., Suite 250, Bldg. 9, JFK Int'l. Airport, Jamaica, NY 11430.

Officers: Tom Yip, Vice President, (Qualifying Individual), Aaron Man, President.

DAK Logistics, 1010 Bluejay Drive, Suisun City, CA 94585, David A. Knott, Sole Proprietor.

Fast Transport Associates, Inc., 2154 NW. 23rd Court, Miami, FL 33142.

Officers: Norberto Martinez, President, (Qualifying Individual), Sonia Alvarenga, Vice President.

AAB Logistics, L.L.C., 2371 Hurst Drive, NE., Suite #100, Atlanta, GA 30305.

Officer: Alexander S.M. Gibson, Director, (Qualifying Individual).

Dated: April 8, 2005.
Bryant L. VanBrakle,
Secretary.

[FR Doc. 05-7425 Filed 4-12-05; 8:45 am]

BILLING CODE 6730-01-P